SOCIAL SECURITY ADMINISTRATION

[Docket No: SSA-2015-0040]

Agency Information Collection Activities: Comment Request

The Social Security Administration (SSA) publishes a list of information collection packages requiring clearance by the Office of Management and Budget (OMB) in compliance with Public Law 104-13, the Paperwork Reduction Act of 1995, effective October 1, 1995. This notice includes a revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2015-0040].

SSA submitted the information collection below to OMB for clearance. Your comments regarding the information collection would be most useful if OMB and SSA receive them 30 days from the date of this publication. To be sure we consider your comments, we must receive them no later than July 29, 2015. Individuals can obtain copies of the OMB clearance packages by writing to OR.Reports.Clearance@ssa.gov.

Application for a Social Security Number Card, the Social Security Number Application Process (SSNAP), and Internet SSN Replacement Card (iSSNRC) Application—20 CFR 422.103-422.110—0960-0066. SSA collects information on the SS-5 (used in the United States) and SS-5-FS (used outside the United States) to issue original or replacement Social Security cards. SSA also enters the application data into the Social Security Number Application Process (SSNAP) when applicants request a new or replacement card via telephone or in person. In addition, hospitals collect the same information on SSA's behalf for newborn children through the Enumeration-at-Birth process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. Respondents can also use these modalities to request a change in their SSN records. Additionally, the iSSNRC application will collect information similar to the paper SS-5 for no-change replacement SSN cards for adult U.S. citizens. A new iSSNRC modality included in the current clearance will allow certain applicants for an SSN replacement card to apply by completing an internet application and submitting the required evidence online rather than completing a paper Form SS-5, Application for a Social Security Card. The respondents for this collection are applicants for original and replacement Social Security cards, or individuals who wish to change information in their SSN records, who use any of the modalities described above.

Type of Request: Revision of an OMB-approved information collection.

Application scenario | Number of respondents | Frequency of response | Average burden per response (minutes) | Estimated total annual burden (hours)
Respondents who do not have to provide parents' SSNs | 10,500,000 | 1 | 8.5 | 1,487,500
Adult U.S. Citizens requesting a replacement card with no changes through new iSSNRC modality * | 1,500,000 | 1 | 5 | 125,000
Respondents whom we ask to provide parents' SSNs (when applying for original SSN cards for children under age 18) | 400,000 | 1 | 9 | 60,000
Applicants age 12 or older who need to answer additional questions so SSA can determine whether we previously assigned an SSN | 1,500,000 | 1 | 9.5 | 237,500
Applicants asking for a replacement SSN card beyond the new allowable limits (i.e., who must provide additional documentation to accompany the application) | 900 | 1 | 60 | 900
Authorization to SSA to obtain personal information cover letter | 500 | 1 | 15 | 125
Authorization to SSA to obtain personal information follow-up cover letter | 500 | 1 | 15 | 125
Totals | 13,901,900 |  |  | 1,911,150
* The total timeline for complete national coverage of the iSSNRC application is two years from the date of initial implementation and is dependent on the contractor enrolling each State into the network. By fiscal year 2018, we would expect to issue about 1.5 million replacement cards annually via the iSSNRC application. However, the estimated volume could vary based on the date of implementation, when the contractor acquires States, and our marketing efforts to the public.

Cost Burden: The state BVSs incur costs of approximately $11 million for transmitting data to SSA's mainframe. However, SSA reimburses the states for these costs.

Dated: June 24, 2015.
Faye I. Lipsky,
Reports Clearance Officer, Social Security Administration.

[FR Doc. 2015-15837 Filed 6-26-15; 8:45 am]

BILLING CODE 4191-02-P